Executive Order 13855 of December 21, 2018

Promoting Active Management of America's Forests, Rangelands, and Other Federal Lands To Improve Conditions and Reduce Wildfire Risk

By the authority vested in me as President by the Constitution and the laws of the United States of America, it is hereby ordered as follows:

Section 1. Policy. It is the policy of the United States to protect people, communities, and watersheds, and to promote healthy and resilient forests, rangelands, and other Federal lands by actively managing them through partnerships with States, tribes, communities, non-profit organizations, and the private sector. For decades, dense trees and undergrowth have amassed in these lands, fueling catastrophic wildfires. These conditions, along with insect infestation, invasive species, disease, and drought, have weakened our forests, rangelands, and other Federal lands, and have placed communities and homes at risk of damage from catastrophic wildfires.

Active management of vegetation is needed to treat these dangerous conditions on Federal lands but is often delayed due to challenges associated with regulatory analysis and current consultation requirements. In addition, land designations and policies can reduce emergency responder access to Federal land and restrict management practices that can promote wildfire-resistant landscapes. With the same vigor and commitment that characterizes our efforts to fight wildfires, we must actively manage our forests, rangelands, and other Federal lands to improve conditions and reduce wildfire risk.

In recognition of these regulatory, policy, and coordinating challenges, the Secretary of the Interior and the Secretary of Agriculture (the Secretaries) each shall implement the following policies in their respective departments:

(a) Shared Management Priorities. The goal of Federal fire management policy for forests, rangelands, and other Federal lands shall be to agree on a set of shared priorities with Federal land managers, States, tribes, and other landowners to manage fire risk across landscapes.

(b) Coordinating Federal, State, Tribal, and Local Assets. Wildfire prevention and suppression and post-wildfire restoration require a variety of assets and skills across landscapes. Federal, State, tribal, and local governments should coordinate the deployment of appropriate assets and skills to restore our landscapes and communities after damage caused by fires and to help reduce hazardous fuels through active forest management in order to protect communities, critical infrastructure, and natural and cultural resources.

(c) Removing Hazardous Fuels, Increasing Active Management, and Supporting Rural Economies. Post-fire assessments show that reducing vegetation through hazardous fuel management and strategic forest health treatments is effective in reducing wildfire severity and loss. Actions must be taken across landscapes to prioritize treatments in order to enhance fuel reduction and forest-restoration projects that protect life and property, and to benefit rural economies through encouraging utilization of the by-products of forest restoration.

Sec. 2. Goals. (a) To protect communities and watersheds, to better prevent catastrophic wildfires, and to improve the health of America's forests, rangelands, and other Federal lands, the Secretaries shall each develop goals and implementation plans for wildfire prevention activities and programs in their respective departments. In the development of such goals and plans:

(i) The Secretary of the Interior shall review the Secretary's 2019 budget justifications and give all due consideration to establishing the following objectives for 2019, as feasible and appropriate in light of those budget justifications, and consistent with applicable law and available appropriations:

(A) Treating 750,000 acres of Department of the Interior (DOI)-administered lands to reduce fuel loads;

(B) Treating 500,000 acres of DOI-administered lands to protect water quality and mitigate severe flooding and erosion risks arising from forest fires;

(C) Treating 750,000 acres of DOI-administered lands for native and invasive species;

(D) Reducing vegetation giving rise to wildfire conditions through forest health treatments by increasing health treatments as part of DOI's offering for sale 600 million board feet of timber from DOI-administered lands; and

(E) Performing maintenance on public roads needed to provide access for emergency services and restoration work; and

(ii) The Secretary of Agriculture shall review the Secretary's 2019 budget justifications and give all due consideration to establishing the following objectives for 2019, as feasible and appropriate in light of those budget justifications, and consistent with applicable law and available appropriations:

(A) Treating 3.5 million acres of Department of Agriculture (USDA) Forest Service (FS) lands to reduce fuel load;

(B) Treating 2.2 million acres of USDA FS lands to protect water quality and mitigate severe flooding and erosion risks arising from forest fires;

(C) Treating 750,000 acres of USDA FS lands for native and invasive species;

(D) Reducing vegetation giving rise to wildfire conditions through forest health treatments by increasing health treatments as part of USDA's offering for sale at least 3.8 billion board feet of timber from USDA FS lands; and

(E) Performing maintenance on roads needed to provide access on USDA FS lands for emergency services and restoration work.

(b) For the years following establishment of the objectives in subsection (a) of this section, the Secretaries shall consider annual treatment objectives that meet or exceed those established in subsection (a) of this section, using the full range of available and appropriate management tools, including prescribed burns and mechanical thinning. The Secretaries shall also refine and develop performance metrics to better capture the risk reduction benefits achieved through application of these management tools.

(c) In conjunction with establishment of goals, and by no later than March 31, 2019, the Secretaries shall identify salvage and log recovery options from lands damaged by fire during the 2017 and 2018 fire seasons, insects, or disease.

Sec. 3. Coordination and Efficient Processes. Effective Federal agency coordination and efficient administrative actions and decisions are essential to improving the condition of America's forests, rangelands, and other Federal lands. To advance the policies set forth in this order and the goals set by the Secretaries, the Secretaries shall:

(a) Coordinate with the heads of all relevant Federal agencies to prioritize and promptly implement post-wildfire rehabilitation, salvage, and forest restoration;

(b) Streamline agency administrative and regulatory processes and policies relating to fuel reduction in forests, rangelands, and other Federal lands and forest restoration when appropriate by:

(i) Adhering to minimum statutory and regulatory time periods, to the maximum extent practicable, for comment, consultation, and administrative review processes related to active management of forests, rangelands, and other Federal lands, including management of wildfire risks;

(ii) Using all applicable categorical exclusions set forth in law or regulation for fire management, restoration, and other management projects in forests, rangelands, and other Federal lands when implementing the requirements of the National Environmental Policy Act (42 U.S.C. 4321 et seq.);

(iii) Consistent with applicable law, developing and using new categorical exclusions to implement active management of forests, rangelands, and other Federal lands; and

(iv) Immediately prioritizing efforts to reduce the time required to comply with consultation obligations under the Endangered Species Act of 1973 (16 U.S.C. 1531 et seq.).

Sec. 4. Unmanned Aerial Systems. To reduce fire and forest health risks as described in section 1 of this order, the Secretaries shall, in coordination with the Administrator of the Federal Aviation Administration, maximize appropriate use of unmanned aerial systems to accelerate forest management and support firefighting and post-fire rehabilitation in forests, rangelands, and other Federal lands.

Sec. 5. Wildfire Strategy. (a) In collaboration with Federal, State, tribal, and local partners, the Secretaries shall jointly develop, by December 31, 2020, a strategy to support local Federal land managers in project decision-making and inform local fire management decisions related to forests, rangelands, and other Federal lands, thereby protecting habitats and communities, and reducing risks to physical infrastructure.

(b) In developing the strategy described in subsection (a) of this section, the Secretaries shall:

(i) Identify DOI- and USDA FS-administered lands with the highest probability of catastrophic wildfires, as well as areas on those lands where there is a high probability that wildfires would threaten people, structures, or other high-value assets, in order to direct and prioritize actions to meet land management goals and to protect communities;

(ii) Examine the costs and challenges relating to management of DOI- and USDA FS-administered lands, including costs associated with wildfire suppression, implementation of applicable statutory requirements, and litigation;

(iii) Review land designations and policies that may limit active forest management and increase the risk of catastrophic wildfires;

(iv) Consider market conditions as appropriate when preparing timber sales, including biomass and biochar opportunities, and encourage export of these or similar forest-treatment products to the maximum extent permitted by law, in order to promote active forest management, mitigate wildfire risk, and encourage post-fire forest restoration;

(v) Develop recommended actions and incentives to expand uses, markets, and utilization of forest products resulting from restoration and fuel reduction projects in forests, rangelands, and other Federal lands, including biomass and small-diameter materials;

(vi) Assess how effectively Federal programs and investments support forest-product infrastructure and market access;

(vii) Identify and assess methods, including methods undertaken pursuant to section 3(b)(iv) of this order, to more effectively and efficiently streamline consultation under the Endangered Species Act;

(viii) In conjunction with the Administrator of the Environmental Protection Agency, identify methods to reduce interagency regulatory barriers, improve alignment of Federal, State, and tribal policy, and identify redundant policies and procedures to promote efficiencies in implementing the Clean Water Act of 1972 (33 U.S.C. 1251 et seq.), Clean Air Act (42 U.S.C. 7401 et seq.), and other applicable Federal environmental laws; and

(ix) Develop procedures and guidance to facilitate timely compliance with the National Environmental Policy Act.

Sec. 6. Collaborative Partnerships. To reduce fuel loads, restore watersheds, and improve forest, rangeland, and other Federal land conditions, and to utilize available expertise and efficiently deploy resources, the Secretaries shall expand collaboration with States, tribes, communities, non-profit organizations, and the private sector. Such expanded collaboration by the Secretaries shall, at a minimum, address:

(a) Supporting road activities needed to maintain forest, rangeland, and other Federal land health and to mitigate wildfire risk by expanding existing or entering into new Good Neighbor Authority agreements, consistent with applicable law; and

(b) Achieving the land management restoration goals set forth in section 2 of this order and reducing fuel loads by pursuing long-term stewardship contracts, including 20-year contracts, with States, tribes, non-profit organizations, communities, and the private sector, consistent with applicable law.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 21, 2018.

[FR Doc. 2019-00014

Filed 1-4-19; 8:45 am]

Billing code 3295-F9-P